DEPARTMENT OF THE INTERIOR

Office of the Secretary

[RR83530000, 234R5065C6, RX.59389832.1009676]

National Environmental Policy Act Implementing Procedures for the Bureau of Reclamation

AGENCY: Office of the Secretary, Interior.

ACTION: Notice and request for comments.

SUMMARY: The Department of the Interior (Department), Bureau of Reclamation (Reclamation) proposes to revise seven categorical exclusions (CE) under the National Environmental Policy Act of 1969 (NEPA) in Reclamation's NEPA implementing procedures, Departmental Manual (DM) at part 516, chapter 14. The proposed revisions would clarify existing CEs on certain financial assistance funding, water-related contracting, and use authorization actions to allow for more consistent interpretation and more efficient review of appropriate actions based on Reclamation's experience implementing these CEs. The Department, on behalf of Reclamation, invites public comment on the proposed revisions.

DATES: Submit written comments on or before July 8, 2024.

ADDRESSES: Send written comments electronically to usbr_ce@usbr.gov, or by mail to Bureau of Reclamation, Attn: USBR CE, 1849 C Street NW, Suite 7069, Washington, DC 20240. Supporting documentation used in preparing the proposed CE revisions is available for public inspection at www.usbr.gov/nepa. The public can also view the CE substantiation report at www.usbr.gov/nepa. The web address for Reclamation's current procedures, at series 31, part 516, chapter 14, is https://www.doi.gov/document-library/departmental-manual/516-dm-14-managing-nepa-process-bureau-reclamation.

FOR FURTHER INFORMATION CONTACT: Shane Hunt (he/him) via phone at 916-202-7158, or via email at usbr_ce@usbr.gov. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Reclamation was established in 1902. Its original mission was civil works construction to develop the water resources of the arid Western United States to promote the settlement and economic development of that region. Reclamation developed hundreds of projects to store and deliver water. That substantial infrastructure development contributed to making Reclamation the largest wholesale supplier of water and the second largest producer of hydropower in the United States.

Reclamation carries out numerous activities in support of its modern-day mission and authorities. NEPA requires Federal agencies to assess the potential environmental effects of proposed major Federal actions. If a major Federal action would have significant impacts on the quality of the human environment, an agency prepares an environmental impact statement (EIS) to describe the reasonably foreseeable effects associated with the proposed action, as well as a reasonable range of alternatives (see 42 U.S.C. 4332(2)(C)). An agency prepares an environmental assessment (EA) when a proposed action will not have a reasonably foreseeable significant effect on the quality of the human environment, or if the significance of such effect is unknown (see 42 U.S.C. 4336(a)(2), 40 CFR 1501.5(a)). A Federal agency also identifies in its agency NEPA implementing procedures categories of actions that normally do not significantly affect the quality of the human environment and therefore do not require the preparation of an EA or an EIS, subject to the consideration of extraordinary circumstances (see 42 U.S.C. 4336e(1), 40 CFR 1501.4 and 43 CFR 46.215). When appropriately established and applied, these CEs allow agencies to protect the environment while operating more efficiently by focusing their resources on proposals that may have significant environmental impacts. In the late 1970s and early 1980s, the Department established Reclamation-specific NEPA implementing procedures, including 30 CEs, which are found in chapter 14 of part 516 of the Departmental Manual (516 DM 14). The Department and Reclamation, through this notice, propose to revise seven of those CEs, as discussed below.

Since developing Reclamation's NEPA implementing procedures, several government-wide and Departmental efforts have encouraged agencies and bureaus to modernize and streamline environmental reviews and, where appropriate, establish new CEs or revise existing ones. The Council on Environmental Quality (CEQ) recommends that agencies periodically review and update, as necessary, their NEPA implementing procedures, including their CEs.¹

¹ See 40 CFR 1507.3 and CEQ's 2010 guidance on Establishing, Applying, and Revising Categorical Exclusions Under the National Environmental Policy Act, https://ceq.doe.gov/docs/ceq-regulations-and-guidance/NEPA_CE_Guidance_Nov232010.pdf.

Reclamation has amassed extensive knowledge and experience analyzing actions under NEPA. In 2016, Reclamation comprehensively reviewed its existing CEs at 516 DM 14, which were originally established in the early 1980s. Through the review process and based on more than 40 years of agency experience implementing these CEs, Reclamation identified several examples of actions for which new and revised CEs would improve NEPA compliance by enhancing efficiencies and ensuring clear and consistent interpretation for NEPA practitioners, project proponents, and the public. Specifically, Reclamation's NEPA practitioners and program subject matter experts (CE Working Group) reviewed the original purpose and history of the applicability and use for each of Reclamation's existing CEs. Reclamation's CE Working Group identified issues and challenges contributing to inconsistent interpretation of the actions or scope covered by the CEs, as well as opportunities to modify or add new actions to CEs when those modifications or actions would not result in significant environmental effects.

The CE Working Group found that CEs with clearly defined language and consistent application by NEPA practitioners did not require changes at this time. The CE Working Group identified seven CEs, which are covered by this notice, for revisions to promote consistent interpretation and application by eliminating confusing or outdated terminology and authorities. The CE Working Group also identified 12 existing CEs and potentially new CEs, not addressed in this notice, that required either substantial changes, additional language, or a more thorough review to promote consistent interpretation and to expand their scope to include similar actions with similar ranges of potential impacts. On May 24, 2019, Reclamation established one new CE for transfers of title. Upon completion of the title transfer CE, Reclamation determined its next priority was to revise the seven existing CEs that are the subject of this notice.

The proposed revisions to the seven CEs correct and modernize terminology and authorities, as well as clarify the scope of activities and constraints. While the effect of certain proposed CE revisions would be to broaden CE application to include additional actions, as explained more fully below, the proposed changes are consistent with the existing CEs' intent as well as the underlying activities and impact-based constraints contemplated by the existing CEs from their inception. The result of these proposed changes is that the CEs' underlying activities and the constraints used to define them remain intact. Further, Reclamation's record of CE checklists and EAs with findings of no significant impact (FONSIs) support these proposed changes for actions that normally do not have a significant effect on the human environment. This notice provides a comparison of the existing and proposed CE language and the specific history, basis, and rationale for each proposed revised CE.

516 DM 14.5—Operation and Maintenance Activities
[Water-related contracts]
Existing CE language | Proposed revised CE language
D4. Approval, execution, and implementation of water service contracts for minor amounts of long-term water use or temporary or interim water use where the action does not lead to long-term changes and where the impacts are expected to be localized | D4. Approval, execution, administration, and implementation of water-related contracts and contract renewals, amendments, supplements, and assignments, and water transfers, exchanges, and replacements, for which one or more of the following apply: (a) for minor amounts of long-term water use, where impacts are expected to be localized; (b) for temporary or interim water use ² where the action does not lead to long-term changes and where the impacts are expected to be localized; or (c) where the only result will be to implement an administrative or financial practice or change. A “water-related” contract is any legally binding agreement to which Reclamation becomes a party, pursuant to its authority under Federal law that (1) makes water available from or to the United States; (2) allows water to be stored, carried, or delivered in facilities Reclamation owns, manages, operates, or funds; or (3) establishes operation, maintenance, and replacement responsibilities for such facilities.
D14. Approval, renewal, transfer, and execution of an original, amendatory, or supplemental water service or repayment contract where the only result will be to implement an administrative or financial practice or change | D14. Reserved.

Reclamation proposes to revise the current D4 and D14 CEs for clarity and to promote consistent interpretation, focused on impacts-based constraints, while ensuring that the actions potentially covered by the proposed D4 CE would not have a significant effect on the human environment. Reclamation proposes to combine the current D4 and D14 CEs into the proposed D4 CE and reserve D14 for future use if needed.

² Reclamation policy PEC P05 defines temporary and interim as short-term meaning 10 years or less.

The CE Working Group review found that Reclamation routinely used the current D4 and D14 CEs and that there are extensive records of CE checklists and EAs with FONSIs to document that the water contract actions described therein did not result in significant effects. Reclamation's review also identified several challenges arising from the way CEs D4 and D14 are defined—in particular, how the water-related contract types (water service, repayment, etc.) and contract actions (approval, execution, renewal, etc.) should be read in relation to applicable impacts-based constraints.

Inconsistencies in the current D4 and D14 CEs have led to unclear expectations and varying application by NEPA practitioners. This lack of clarity has led to increased costs and resource expenditures when Reclamation prepares EAs rather than using the current D4 or D14 CEs. The current D4 and D14 CEs apply only to certain contract types and contracting actions. For instance, the current D4 CE only lists water service contracts and original contract execution. The current D14 CE omits contract implementation—Reclamation's performance of the contract once it is executed—and applies only to water service and repayment contracts. Further, the historic record establishing these current CEs does not describe the reasons for the omissions and differences regarding contract types and contract actions or provide guidance about how to interpret the differences. Nor are there now discernable, relevant reasons for the distinctions. The relevant distinctions for purposes of the current CEs are water amount, duration of the contract, and magnitude of the impact. The intention of Reclamation's proposed revisions to the current D4 and D14 CEs is to resolve these issues by simplifying contract types to include all “water-related” contracts and all contract actions to more clearly define the applicability of the proposed D4 CE based on an action's impacts.

The range of proposed water-related contract actions covered under the current D4 and D14 CEs are substantially the same among Reclamation's contract types. Reclamation enters into a variety of water-related contract types and carries out contract actions to amend, supplement, or renew these contracts after their original execution. Water service contracts provide project water at contractually established water rates pursuant to section 9(c)(2) or 9(e) of the Reclamation Project Act of 1939 (1939 Act),³ section 9 of the Water Conservation and Utilization Act of 1939,⁴ the Sale of Water for Miscellaneous Purposes Act of 1920,⁵ or other authorities. Repayment contracts, pursuant to 9(d) of the 1939 Act, provide project water in exchange for contractors' agreement to repay a set amount of the government's project costs in a given time.

³ Public Law 76-260, 9; 53 Stat. 1187, 1193; 43 U.S.C. 485h.

⁴ Public Law 76-398, 9; 53 Stat 1418; 1124; 16 U.S.C. 590z-7.

⁵ Public Law 66-147, 41 Stat. 451; 43 U.S.C. 521.

While water service and repayment contracts are core types of contracts that Reclamation holds, Reclamation also enters into a variety of other water-related contracts. These include excess capacity contracts, which allow others to store and move non-project water in Federal works; contracts to transfer Federal operation and maintenance responsibilities to water user organizations; and water exchange or replacement contracts. The current D4 and D14 do not expressly include the range of Reclamation water-related contract types. The proposed revisions to the D4 CE expand the potential application of the proposed CE to encompass the variety of water-related contracts entered into by Reclamation. Including them enhances Reclamation's ability to comply with NEPA efficiently and effectively, consistent with 40 CFR 1501.4 where they meet the impact-based constraints, rather than based on distinctions that relate instead to the legal and financial aspects of contract actions.

The potential application of the proposed D4 CE is inclusive of more types of water-related contracts as discussed above; however, the proposed D4 CE establishes meaningful limits to its application. All water-related contracts affect the delivery and use of water or the operation of related facilities and involve relatively large or small water amounts. Any water-related contract may be subject to actions that only result in implementation of an administrative or financial practice or change. Accordingly, rather than limiting CE application based on the legal or financial characteristics of contracts and contract actions, the proposed D4 CE contains impact-based constraints on its application.

To date, Reclamation has prepared numerous EAs and FONSIs for water-related contract requests, which www.usbr.gov/nepa provides. In this notice's supporting documentation, Reclamation includes the review of 25 water-related contract EAs and FONSIs completed between 2011 and 2022. These EAs and FONSIs demonstrate that, absent extraordinary circumstances, the types of water-related contracts that the proposed D4 CE would cover, result in no significant effects.

To inform its proposed updates to the current D4 and D14 CEs, Reclamation also analyzed the impact-based constraints in these existing CEs. The constraint limiting the scope and effects for the existing D14 CE, “where the only result will be to implement an administrative or financial practice or change,” is clear, easily understood, and consistently applied by NEPA practitioners. In contrast, the impact-based constraints in the current D4 CE create confusion regarding its application. Due to its grammatical construction, most notably the lack of punctuation, the current D4 CE does not clearly present the relationship between the impact-based constraints and D4 CE's application. To resolve the confusion created by the current D4 CE and provide clarity and consistency, Reclamation proposes to revise the D4 CE to distinctly list each impact-based constraint.

Reclamation determined that the application of the proposed D4 CE should continue to be determined by changes in water quantity relative to the affected project or water system. Reclamation also considered whether the absolute water-related contract water amounts, for instance, limiting application by acre-feet of water, should constrain the application of the proposed D4 CE. Ultimately, Reclamation rejected specifying water amounts because the effects to a water system resulting from a water-related contract's specified changes in water quantity are relative; effects depend on the size and unique characteristics of the water system. For example, an amount of contract water that would be minor to the Columbia River might be significant to the Middle Rio Grande River. Therefore, Reclamation proposes the continued use of “minor” as an appropriate constraint for water quantity under the proposed D4 CE. The current D4 CE successfully applies the constraint and based on a review of past CE use, EAs, and FONSIs, the use of the term “minor” when coupled with the other impact-based constraints included in the proposed CE, and absent any extraordinary circumstances, will normally not significantly affect the quality of the human environment. Likewise, system-specific characteristics, such as hydrological interconnections and local environmental sensitivities, will affect Reclamation's assessment of whether a water-related contract action's impacts would be considered minor, lead to long-term changes, or be localized. Reclamation has not quantified these impact-based constraints in the past, and for the reasons noted above, finds that these constraints do not require quantification in the proposed D4 CE.

Finally, as described above, the type of water-related contract or contract action is not an effective measure of environmental effects or means of defining a CE's application. The impact-based constraints limiting use of the CEs based on elements of water delivery (amount, duration, and area impacted) are more meaningful to determine the relationship of an action to the potential for significant impacts to the environment. Emphasis on using impact-based constraints to define those water-related contracts eligible for use of the proposed D4 CE would standardize its application across water-related contract actions as well as ensure the covered actions would not result in significant effects.

To clarify the application of CEs pertaining to water-related contract actions and to focus on impact-based constraints, Reclamation proposes to consolidate the current D4 and D14 CEs into one CE, the proposed D4 CE. Reclamation then proposes to revise the current D4 CE to replace “water service contract” with the more inclusive “water-related contract,” which is defined in the proposed D4 CE and the Reclamation Manual Policy, Water-Related Contracts and Charges—General Principles and Requirements (PEC P05), 4.R. The proposed text of D4 CE then uses a list format for each of the impact-based constraints limiting the application of the proposed D4 CE to increase clarity. This includes “temporary or interim water use” which PEC P05, 4.P defines as short-term meaning 10 years or less. Based on the consideration of the contract types, within the context of the impact-based constraints and absent any extraordinary circumstances, Reclamation determines that the additional contract types would not have a significant impact on the quality of the human environment.

516 DM 14.5—Operation and Maintenance Activities
[Use authorizations]
Existing CE language | Proposed revised CE language
D8. Renewal of existing grazing, recreation management, or cabin site leases which do not increase the level of use or continue unsatisfactory environmental conditions | D8. Issuance or renewal of use authorizations (as defined in 43 CFR 429.2, including crossing agreements which provide rights-of-way) that provide right-of-use of Reclamation land, facilities, or waterbodies where one or more of the following apply: (a) work is minor and impacts are expected to be localized; (b) the action does not lead to a major public or private action; (c) the only result of the authorization will be to implement an administrative or financial practice or change; or (d) the level of use or impacts to resources is not increased.
D10. Issuance of permits, licenses, easements, and crossing agreements which provide right-of-way over Bureau lands where the action does not allow for or lead to a major public or private action | D10. Reserved.

Reclamation's CE Working Group review found that the existing D8 and D10 CEs, as well as other Reclamation CEs for substantially similar use authorization actions, such as D9 that covers the “issuance of permits for removal of gravel or sand by an established process from existing quarries,” are routinely applied to use authorization activities. The extensive collection of CE checklists for the existing D8 and D10 CEs and other use authorization CEs demonstrate that these activities do not have significant effects absent extraordinary circumstances. The list of use authorization types in the current D10 CE is consistent with the use authorizations included in 43 CFR 429.2 (i.e., easements, leases, licenses, permits, and consent documents). Reclamation also found confusion regarding the existing D8 and D10 CEs' applicability to use authorization renewals, issuances, and reissuances related to underlying use authorization activities. For example, the current D10 CE does not explicitly include renewal of use authorizations. As a result of this omission, NEPA practitioners interpret the current D10 CE differently with some employing the current D10 CE to reissue expiring use authorizations and others determining that the current D10 CE is not applicable in the same circumstances.

Reclamation proposes to revise the current D8 and D10 CEs to more clearly describe when a use authorization CE applies. First, Reclamation proposes to combine the existing D8 and D10 CEs into one CE, the proposed D8 CE, and reserve D10 for future use if needed. Next, Reclamation proposes to include in the proposed D8 CE the term “use authorization.” Similar to the scope of the current D10 CE, the proposed D8 CE covers the Reclamation use authorization activities by incorporating language from and a reference to 43 CFR 429.2, including crossing agreements which provide rights-of-way for consistency in interpretation. Finally, the proposed D8 CE specifies the terms and conditions for which Reclamation will issue a use authorization for its land, facilities, or waterbodies.

Much like the rationale supporting the use of impact-based constraints for water-related contracts and contracting actions in the proposed D4 CE, for the proposed D8 CE, the use authorization type does not as effectively identify environmental effects or define the proposed CE's application as the underlying use authorization actions and impact-based constraints. Therefore, Reclamation is proposing to revise the D8 CE to clarify the actions that fall under “use authorizations” and list the impact-based constraints on the application of the proposed D8 CE. In the aggregate, the forgoing revisions in the proposed D8 CE will standardize its application and will not expand the scope of actions covered under the current D8 and D10 CEs.

Reclamation has prepared numerous CE checklists and EAs analyzing use authorization proposals covering actions within the scope of the proposed D8 CE that resulted in FONSIs. Reclamation's CE substantiation report summarizes 13 use authorization EAs with FONSIs completed between 2006 and 2022. These EAs and FONSIs demonstrate that the issuance and renewal of use authorization included in the proposed D8 CE typically result in no significant impacts. The proposed D8 CE is consistent with 43 CFR part 429 and contemporary Reclamation Manual policies and directives and standards and will lead to improved, more efficient analysis of these actions.

516 DM 14.5—Financial Assistance, Loans, and Funding Activities
Existing CE language | Proposed revised CE language
E1. Rehabilitation and Betterment Act loans and contracts which involve repair, replacement, or modification of equipment in existing structures or minor repairs to existing dams, canals, laterals, drains, pipelines, and similar facilities | E1. Financial assistance, cooperative agreements, grants, loans, contracts, or other funding, where the underlying actions being funded (a) would be covered by another Reclamation CE if Reclamation were implementing the action itself, or (b) where the work to be done is confined to areas already impacted by farming or development activities, work is considered minor, and where the impacts are expected to be localized.
E2. Small Reclamation Projects Act grants and loans where the work to be done is confined to areas already impacted by farming or development activities, work is considered minor, and where the impacts are expected to be localized | E2. Reserved.
E3. Distribution System Loans Act loans where the work to be done is confined to areas already impacted by farming or developing activities, work is considered minor, and where the impacts are expected to be localized | E3. Reserved.

Reclamation's CE Working Group review found that the existing E1, E2, and E3 CEs, which are the current CEs pertaining to financial assistance actions, are too narrowly defined by specific, outdated program authorities that Reclamation policy now disfavors. Reclamation has gained several authorities for financial assistance through the SECURE Water Act, Infrastructure Investment and Jobs Act, Inflation Reduction Act, and others to provide critical funding for water and energy infrastructure, restoration, drought, and conservation projects that are integral to Reclamation and Department missions.

Rather than tying the CE to particular authorities, Reclamation proposes that the revisions describe the underlying activity with impact-based constraints, allowing Reclamation to use the CE across current and future programs. The existing E1, E2, and E3 CEs too narrowly define the listed program authorities for Reclamation's contemporary program portfolio. Further, many of the actions funded by Reclamation's current financial assistance programs would qualify for these and other existing CEs because the underlying activities are either already covered by another Reclamation CE if Reclamation were implementing the action itself, or the activities (e.g., “work [. . .] confined to areas already impacted by farming or developing activities, work is considered minor, and where the impacts are expected to be localized.”) are consistent with the existing E1, E2, and E3 CEs.

Given Reclamation's inability to access existing E1, E2, and E3 CEs because of their narrow definitions of authority, Reclamation's current practice is to prepare EAs and FONSIs for many financial assistance actions. To address the current E1, E2, and E3 CEs' obsolescence and avoid similar issues in the future, Reclamation proposes to remove all reference to specific program authorities in the proposed E1 CE. The proposed revised CE, in turn, is substantiated based on the EAs and FONSIs that Reclamation has prepared in the absence of such an existing CE, as outlined in the accompanying CE substantiation report.

Reclamation also has determined that the underlying financial assistance activities in the existing E1, E2, and E3 CEs remain relevant, and has updated the impact-based constraints in these CEs based on the analysis of these recent EAs and FONSIs. Accordingly, Reclamation proposes to include impact-based constraints from the existing E1, E2, and E3 CEs in the proposed E1 CE. The underlying financial assistance actions retained in the proposed E1 CE include funded actions that another Reclamation CE, if Reclamation were implementing the action itself, would cover. The impact-based constraints from the E2 and E3 CEs also are in the proposed E1 CE, limiting the application of the proposed E1 CE to financial actions for “work [. . .] confined to areas already impacted by farming or developing activities, work is considered minor, and where the impacts are expected to be localized.”

These impact-based constraints limit the application of the proposed E1 CE to financial assistance activities that normally will not have significant environmental impacts.

Reclamation also proposes to expand the types of financial assistance actions covered under the proposed E1 CE to include financial assistance, cooperative agreements, grants, loans, contracts, and a catch-all “other funding.” This revision allows the proposed E1 CE to be potentially applicable to all financial assistance types, including grants, loans, and funding for applicant, sponsor or partner actions as long as the financial assistance action is consistent with the underlying financial assistance actions and impacts-based constraints defined in the proposed E1 CE. Because the financial assistance authorities assigned to Reclamation by law are subject to change, and Reclamation would like to avoid obsolescence, the proposed E1 CE draft focuses on the underlying financial assistance activity funded rather than the funding program authority, allowing for application consistent with current and future authorities.

Similar to the rationale for water-related contracts and contracting actions in the proposed D4 CE and use authorization actions in the proposed D8 CE, for the proposed E1 CE, the authority type does not as effectively identify environmental effects or define the proposed CE's application as the underlying financial assistance actions and impact-base constraints. Therefore, Reclamation is proposing to revise the current E1, E2, and E3 CEs to remove the specificity of funding program authorities, clarify the underlying financial assistance actions and impact constraints on their application, and combine into one proposed E1 CE, with E2 and E3 reserved for future use if needed. While Reclamation expects these proposed revisions to increase the types of financial assistance actions that qualify for the proposed E1 CE, the scope of these actions is consistent with existing definitions of underlying financial assistance activities and impact-based constraints.

Reclamation has prepared numerous CE checklists and EAs analyzing financial assistance proposals covering actions with the scope of the proposed E1 CE that resulted in FONSIs. Reclamation has summarized 33 EAs with FONSIs completed between 2016 and 2022 in its CE substantiation report included in this notice's supporting documentation, which support a determination that the proposed CE revisions would not result in significant impacts for financial assistance actions. Additional Financial Assistance EAs with FONSIs can be accessed at www.usbr.gov/nepa that also demonstrate that types of proposals included in the proposed E1 CE typically result in no significant effects. The proposed E1 CE is consistent with contemporary Reclamation authorities and will lead to improved, more efficient analysis of these actions.

Categorical Exclusion Determination

The Department and Reclamation find that the categories of actions described in the proposed CEs normally do not have a significant effect on the human environment absent extraordinary circumstances. This finding is based on Reclamation's comprehensive review of CEs, EAs, and FONSIs; its history and over 40 years of experience analyzing actions under NEPA and using these CEs; the rationale for the proposed revisions described above; and consistent determinations made under CE checklists and EAs with FONSIs that these actions normally do not have a significant effect on the human environment. Since establishing the existing contracting and use authorization CEs in the late 1970s and early 1980s, Reclamation estimates it has prepared thousands of CE checklists documenting that these actions did not result in significant effects. In addition, since the early 1980s, Reclamation estimates it has prepared hundreds of EAs and FONSIs for financial assistance actions similar to those actions that would be covered under the proposed E1 CE that were not included in the narrow definition of the specific authorities in the E1, E2, and E3 CEs. Further, Reclamation estimates that it has prepared hundreds of additional EAs and FONSIs for contracting and use authorization actions closely related to the D4, D8, D10, and D14 CEs that either did not meet strict interpretation of those CE definitions, or where a water-related contract or use authorization CE was not applied because of uncertainty surrounding the description of the proposal type, proposal activities, or impact-based constraints. The frequent use of these existing CEs, experience preparing EAs and FONSIs for actions covered by the proposed CEs, and Reclamation's comprehensive review of how its existing CEs are applied in practice serve to validate Reclamation's preparation of these proposed CEs. To further demonstrate the finding that actions under the proposed CEs would not normally result in significant effects to the human environment, Reclamation reviewed 71 EAs with FONSIs and summarized them in the CE substantiation report included in this notice's supporting documentation. These 71 EAs with FONSIs analyze actions that the proposed CE revisions are designed to cover in the future. Additional EAs with FONSIs are also available at www.usbr.gov/nepa.

Reclamation recognizes that certain proposed actions, when reviewed on a case-by-case basis, may trigger one or more extraordinary circumstances, and for those proposed actions where a normally excluded action may have a significant effect, Reclamation will prepare an EA or EIS (see 43 CFR 46.215). In such cases, the proposed actions could have significant environmental effects and require additional NEPA analysis (see 40 CFR 1501.4(b)). Thus, prior to applying any CE, Reclamation will review the proposed action to ensure it is covered by the CE and evaluate the proposed action for any extraordinary circumstances. Reclamation requires that any action for which a Reclamation CE is used must be documented with a CE checklist to demonstrate (a) the applicability of the CE, and (b) verification that no extraordinary circumstances are present such that a normally excluded action may have a significant effect. In such cases, Reclamation will conduct additional NEPA analysis and prepare an EA or EIS, as appropriate.

The Department, on behalf of Reclamation, invites comments on these proposed CE revisions and will consider all comments received by the comment deadline. Comments should be as specific as possible and provide detail to explain the importance of the issues raised in the comment to Reclamation's proposed rulemaking.

Public Disclosure Statement

Before including your address, phone number, email address, or other personal identifying information in your comment, you should be aware that your entire comment including your personal identifying information may be made publicly available at any time. While you can ask us in your comment to withhold your personal identifying information from public review, we cannot guarantee that we will be able to do so.

Amended Text for the Departmental Manual

The proposed text would modify 516 DM as set forth below:

Part 516: National Environmental Policy Act of 1969

Chapter 14: Managing the NEPA Process—Bureau of Reclamation

* * * * *

14.5 Categorical Exclusions

* * * * *

D. Operation and Maintenance Activities

* * * * *

(4) Approval, execution, administration, and implementation of water-related contracts and contract renewals, amendments, supplements, and assignments, and water transfers, exchanges, and replacements, for which one or more of the following apply: (a) for minor amounts of long-term water use, where impacts are expected to be localized; (b) for temporary or interim water use where the action does not lead to long-term changes and where the impacts are expected to be localized; or (c) where the only result will be to implement an administrative or financial practice or change. A “water-related contract” is any legally binding agreement to which Reclamation becomes a party, pursuant to its authority under Federal law that (1) makes water available from or to the United States; (2) allows water to be stored, carried, or delivered in facilities Reclamation owns, manages, operates, or funds; or (3) establishes operation, maintenance, and replacement responsibilities for such facilities.

* * * * *

(8) Issuance or renewal of use authorizations (as defined in 43 CFR 429.2, including crossing agreements which provide rights-of-way) that provide right-of-use of Reclamation land, facilities, or waterbodies where one or more of the following apply: (a) work is minor and impacts are expected to be localized; (b) the action does not lead to a major public or private action; (c) the only result of the authorization will be to implement an administrative or financial practice or change; or (d) the level of use or impacts to resources is not increased.

* * * * *

(10) Reserved.

* * * * *

(14) Reserved.

* * * * *

E. Financial Assistance, Loans, and Funding

(1) Financial assistance, cooperative agreements, grants, loans, contracts, or other funding, where the underlying actions being funded (a) would be covered by another Reclamation CE if Reclamation were implementing the action itself; or (b) where the work to be done is confined to areas already impacted by farming or development activities, work is considered minor, and where the impacts are expected to be localized.

(2) Reserved.

(3) Reserved.

Stephen G. Tryon,
Director, Office of Environmental Policy and Compliance.

[FR Doc. 2024-12459 Filed 6-6-24; 8:45 am]

BILLING CODE 4332-90-P